DEPARTMENT OF THE INTERIOR

National Park Service

[NPS-WASO-NRNHL-DTS#-40709; PPWOCRADI0, PCU00RP14.R50000]

National Register of Historic Places; Notification of Pending Nominations and Related Actions

AGENCY: National Park Service, Interior.

ACTION: Notice.

SUMMARY: The National Park Service is soliciting electronic comments on the significance of properties nominated before July 12, 2025, for listing or related actions in the National Register of Historic Places.

DATES: Comments should be submitted electronically by August 12, 2025.

ADDRESSES: Comments are encouraged to be submitted electronically to National_Register_Submissions@nps.gov with the subject line “Public Comment on <property or proposed district name, (County) State>;.” If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before July12, 2025. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

GEORGIA

Wilkes County

New Ford Baptist Church and Cemetery, 402 Bradford Road, Tignall, SG100012159

KANSAS

McPherson County

Lakeside Park Band Shell, (New Deal-Era Resources of Kansas MPS), 511 N Lakeside Drive, McPherson, MP100012140

Sedgwick County

Interdale Apartments (Residential Resources of Wichita, Sedgwick County, Kansas 1870-1957 MPS), 916-924 North Broadway Avenue, Wichita, MP100012138

McAfee Pool Complex, 1329 E 16th Street, Wichita, SG100012139

Seward County

JE George Building, 202 and 204 North Kansas Avenue, Liberal, SG100012146

Smith County

Athol Community Hall, 320 Main St., Athol, SG100012145

MASSACHUSETTS

Plymouth County

School Street-Main Street Historic District (Historic Resources of Downtown Brockton Dating to the Height of the Shoe Industry, 1840- 1946 MPS), Roughly bounded by Main Street to the west, School Street to the north and east and East Elm Street to the south, Brockton, MP100012152

Rocky Marciano House, 168 Dover Street, Brockton, SG100012153

Skim Milk Bridge and Causeway Historic District, Off Scotland Street over Town River, West Bridgewater, SG100012154

Worcester County

Earl Company Factory, 34 Tremaine Street, Leominster, SG100012151

MINNESOTA

Carver County

Tukihasan Oyanke—Winter Shell Site (Woodland Tradition in Minnesota MPS), Address Restricted, San Francisco Township vicinity, MP100012156

NEW YORK

Chemung County

The George and Theodora Bragg House, 611 Jay Street, Elmira, SG100012131

Columbia County

The Red Rock Monument, 321 County Route 24, East Chatham vicinity, SG100012134

Erie County

Niagara Hall, 831-833 Niagara Street, Buffalo, SG100012132

Commercial Buildings at 136-142 SENECA STREET, 136-142 Seneca Street, Buffalo, SG100012133

Rensselaer County

Cluett, Peabody & Co. Factory and Power Boiler House Complex (Textile Factory Buildings in Troy, New York, 1880-1920 MPS), 431-433 River Street, Troy, MP100012135

NORTH CAROLINA

Jackson County

St. David's-in-the-Valley Episcopal Church, 286 Forest Hills Road, Cullowhee, SG100012158

OKLAHOMA

Ottawa County

Hudson Service Station (Route 66 and Associated Resources in Oklahoma AD MPS), 218 South Main Street, Miami, MP100012147

PENNSYLVANIA

Blair County

Jaffa Mosque, 2200 Broad Avenue, Altoona, SG100012143

Bucks County

Bristol Railroad Station, 100 Prospect Street, Bristol, SG100012144

Delaware County

Ellis Porter Yarnall House, 764 Concord Road, Glen Mills, SG100012141

VIRGINIA

Frederick County

Gravel Springs Farm, 2074 S Pifer Road, Star Tannery, SG100012136

Halifax County

Williamson Farm, 3005 Williamson Road, Alton vicinity, SG100012142

Mecklenburg County

Park View High School, 205 Park View Circle, South Hill, SG100012137

Additional documentation has been received for the following resource(s):

MINNESOTA

Brown County

New Ulm Commercial Historic District (Additional Documentation), Roughly bounded by Minnesota St., bet 1st S and 3rd N Sts., New Ulm, AD05001438

Hennepin County

Flour Exchange Building (Additional Documentation), 323-329 S 3rd St; 300-314 4th Ave., Minneapolis, AD77000740

Nomination(s) submitted by Federal Preservation Officers:

The State Historic Preservation Officer reviewed the following nomination(s) and responded to the Federal Preservation Officer within 45 days of receipt of the nomination(s) and supports listing the properties in the National Register of Historic Places.

COLORADO

Routt County

Farwell Ditch, Routt National Forest, Hahn's Peak, SG100012148

Authority: Section 60.13 of 36 CFR part 60.

Sherry A. Frear,
Chief, National Register of Historic Places/National Historic Landmarks Program.

[FR Doc. 2025-14145 Filed 7-25-25; 8:45 am]

BILLING CODE 4312-52-P